SECURITIES AND EXCHANGE COMMISSION

[OMB Control No. 3235-0120]

Agency Information Collection Activities; Submission for OMB Review; Comment Request; Extension: Form 18-K—Annual Report

Upon Written Request, Copies Available From: Securities and Exchange Commission, Office of FOIA Services, 100 F Street NE, Washington, DC 20549-2736

Notice is hereby given that, pursuant to the Paperwork Reduction Act of 1995 (44 U.S.C. 3501 et seq.), the Securities and Exchange Commission (“Commission” or “SEC”) has submitted to the Office of Management and Budget (“OMB”) this request for extension of the previously approved collection of information discussed below.

Form 18-K (17 CFR 249.318) is an annual report form used by foreign governments or political subdivisions of foreign governments with securities listed on a United States exchange. The information to be collected is intended to ensure the adequacy and public availability of information available to investors. The information provided is mandatory. Form 18-K is a public document. The information required by Form 18-K is mandatory, and Form 18-K is publicly available on the Commission's Electronic Data Gathering, Analysis, and Retrieval (“EDGAR”) system. We estimate that Form 18-K takes approximately 8 hours to prepare and is filed once per year by approximately 37 respondents for a total annual reporting burden of 296 hours (8 hours per response × 37 responses). We estimate that there is no cost associated with this information collection because 100% of the burden is carried internally by the issuer.

An agency may not conduct or sponsor, and a person is not required to respond to, a collection of information unless it displays a currently valid OMB Control Number. The public may view and comment on this information collection request at: https://www.reginfo.gov/public/do/PRAViewICR?ref_nbr=202507-3235-007 or send an email comment to MBX.OMB.OIRA.SEC_desk_officer@omb.eop.gov within 30 days of the day after publication of this notice by October 27, 2025.

Dated: September 23, 2025.
Sherry R. Haywood,
Assistant Secretary.

[FR Doc. 2025-18645 Filed 9-24-25; 8:45 am]

BILLING CODE 8011-01-P